DEPARTMENT OF DEFENSE

Federal Advisory Committee Meeting Notice; Threat Reduction Advisory Committee

AGENCY: Office of the Under Secretary of Defense (Acquisition, Technology and Logistics), Department of Defense.

ACTION: Federal Advisory Committee Meeting Notice.

SUMMARY: Under the provisions of the Federal Advisory Committee Act of 1972 (5 U.S.C., Appendix, as amended) and the Sunshine Act of 1976 (5 U.S.C. 552b, as amended) the Department of Defense announces the following Federal advisory committee meeting of the Threat Reduction Advisory Committee (Hereafter referred to as “the Committee”).

DATES: Tuesday, September 7, 2011, from 8:30 a.m. to 3 p.m.

ADDRESSES: TASC Lorton Office, Conference Room 111, 8211 Terminal Road, Suite 1000, Lorton, VA 22079.

FOR FURTHER INFORMATION CONTACT: Mr. William Hostyn, Defense Threat Reduction Agency/SP-ACP, 8725 John J. Kingman Road, MS 6201, Fort Belvoir, VA 22060-6201. E-mail: william.hostyn@dtra.mil, Phone: (703) 767-4453, Fax: (703) 767-5701.

SUPPLEMENTARY INFORMATION: Purpose of Meeting: To obtain, review and evaluate classified information related to the Committee's mission to advise on technology security, combating weapons of mass destruction (WMD), counter terrorism and counter proliferation.

Agenda: Beginning at 8:30 a.m. through the end of the meeting, the Committee will present SECRET-level Working Group findings throughout the duration of the meeting. The TRAC will also hold classified discussions on WMD related national security matters.

Meeting Accessibility: Pursuant to 5 U.S.C. 552b, as amended, and 41 CFR 102-3.155, the Department of Defense has determined that the meeting shall be closed to the public. The Under Secretary of Defense for Acquisition, Technology and Logistics, in consultation with the DoD FACA Attorney, has determined in writing that this meeting be closed to the public because the discussions fall under the purview of 5 U.S.C. 552b(c)(1) and are inextricably intertwined with the unclassified material which cannot reasonably be segregated into separate discussions without disclosing secret material.

Written Statements: Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: August 15, 2011.
Aaron Siegel,
Alternate OSD Federal Register Liaison Officer, Department of Defense.

[FR Doc. 2011-21314 Filed 8-19-11; 8:45 am]

BILLING CODE 5001-06-P